DEPARTMENT OF COMMERCE

Foreign-Trade Zones Board

[S-99-2022]

Approval of Subzone Status, DMA Sales, LLC, Marion and Nichols, South Carolina

On June 16, 2022, the Executive Secretary of the Foreign-Trade Zones (FTZ) Board docketed an application submitted by the South Carolina State Ports Authority, grantee of FTZ 21, requesting subzone status subject to the existing activation limit of FTZ 21, on behalf of DMA Sales, LLC, in Marion and Nichols, South Carolina.

The application was processed in accordance with the FTZ Act and Regulations, including notice in the Federal Register inviting public comment (87 FR 37497, June 23, 2022). The FTZ staff examiner reviewed the application and determined that it meets the criteria for approval. Pursuant to the authority delegated to the FTZ Board Executive Secretary (15 CFR 400.36(f)), the application to establish Subzone 21I was approved on August 3, 2022, subject to the FTZ Act and the Board's regulations, including Section 400.13, and further subject to FTZ 21's 2,000-acre activation limit.

Dated: August 3, 2022.
Andrew McGilvray,
Executive Secretary.

[FR Doc. 2022-17022 Filed 8-8-22; 8:45 am]

BILLING CODE 3510-DS-P